DEPARTMENT OF ENERGY

Federal Energy Regulatory Commission

Combined Notice of Filings

Take notice that the Commission has received the following Natural Gas Pipeline Rate and Refund Report filings:

Filings Instituting Proceedings

Docket Numbers: RP15-1145-000.

Applicants: Big Sandy Pipeline, LLC.

Description: Compliance filing Big Sandy Fuel Filing effective 9-1-2015.

Filed Date: 7/30/15.

Accession Number: 20150730-5045.

Comments Due: 5 p.m. ET 8/11/15.

Docket Numbers: RP15-1146-000.

Applicants: Florida Gas Transmission Company, LLC.

Description: Section 4(d) Rate Filing: Exhibit B Amendment—Port Everglades to be effective 8/1/2015.

Filed Date: 7/30/15.

Accession Number: 20150730-5057.

Comments Due: 5 p.m. ET 8/11/15.

Docket Numbers: RP15-1147-000.

Applicants: Horizon Pipeline Company, L.L.C.

Description: Section 4(d) Rate Filing: Main Line Generation Negotiated Rate Filing to be effective 9/1/2015.

Filed Date: 7/30/15.

Accession Number: 20150730-5059.

Comments Due: 5 p.m. ET 8/11/15.

Docket Numbers: RP15-1148-000.

Applicants: Transcontinental Gas Pipe Line Company.

Description: Section 4(d) Rate Filing: S-2 Tracker Effective 8-1-2015 to be effective 8/1/2015.

Filed Date: 7/30/15.

Accession Number: 20150730-5159.

Comments Due: 5 p.m. ET 8/11/15.

Docket Numbers: RP15-1149-000.

Applicants: El Paso Natural Gas Company, L.L.C.

Description: Section 4(d) Rate Filing: Negotiated Rate Agreement Update (APS August 2015) to be effective 8/1/2015.

Filed Date: 7/30/15.

Accession Number: 20150730-5179.

Comments Due: 5 p.m. ET 8/11/15.

Docket Numbers: RP15-1150-000.

Applicants: Transcontinental Gas Pipe Line Company.

Description: Section 4(d) Rate Filing: Non-Conforming Agreements_Virginia Southside to be effective 9/1/2015.

Filed Date: 7/30/15.

Accession Number: 20150730-5193.

Comments Due: 5 p.m. ET 8/11/15.

Docket Numbers: RP15-1151-000.

Applicants: Transcontinental Gas Pipe Line Company.

Description: Section 4(d) Rate Filing: Update List of Non-Conforming Service Agreements (VA Southside) to be effective 9/1/2015.

Filed Date: 7/30/15.

Accession Number: 20150730-5207.

Comments Due: 5 p.m. ET 8/11/15.

Docket Numbers: RP15-1152-000.

Applicants: Transcontinental Gas Pipe Line Company.

Description: Section 4(d) Rate Filing: Negotiated Rates—Cherokee AGL—Replacement Shippers—Aug 2015 to be effective 8/1/2015.

Filed Date: 7/30/15.

Accession Number: 20150730-5209.

Comments Due: 5 p.m. ET 8/11/15.

Docket Numbers: RP15-1153-000.

Applicants: Gulf South Pipeline Company, LP.

Description: Section 4(d) Rate Filing: Cap Rel Neg Rate Agmts (Atlanta 8438 to various eff 8-1-15) to be effective 8/1/2015.

Filed Date: 7/31/15.

Accession Number: 20150731-5023.

Comments Due: 5 p.m. ET 8/12/15.

Docket Numbers: RP15-1154-000.

Applicants: Dominion Transmission, Inc.

Description: Section 4(d) Rate Filing: DTI—July 31, 2015 Negotiated Rate Agreements & Administrative Change to be effective 8/1/2015.

Filed Date: 7/31/15.

Accession Number: 20150731-5046.

Comments Due: 5 p.m. ET 8/12/15.

Docket Numbers: RP15-1155-000.

Applicants: ANR Storage Company.

Description: Section 4(d) Rate Filing: United Energy Trading LLC FS Agmt to be effective 8/1/2015.

Filed Date: 7/31/15.

Accession Number: 20150731-5049.

Comments Due: 5 p.m. ET 8/12/15.

Docket Numbers: RP15-1156-000.

Applicants: Gulf South Pipeline Company, LP.

Description: Section 4(d) Rate Filing: Amendments to Neg Rate Agmts (QEP 36601-52, 37657-165) to be effective 8/1/2015.

Filed Date: 7/31/15.

Accession Number: 20150731-5067.

Comments Due: 5 p.m. ET 8/12/15.

Docket Numbers: RP15-1157-000.

Applicants: Gulf South Pipeline Company, LP.

Description: Section 4(d) Rate Filing: Amendment to Neg Rate Agmt (Entergy 40489-3) to be effective 8/1/2015.

Filed Date: 7/31/15.

Accession Number: 20150731-5069.

Comments Due: 5 p.m. ET 8/12/15.

Docket Numbers: RP15-1158-000.

Applicants: Gulf South Pipeline Company, LP.

Description: Compliance filing New Ambient Winter Firm Transportation Service to be effective 7/1/2016.

Filed Date: 7/31/15.

Accession Number: 20150731-5071.

Comments Due: 5 p.m. ET 8/12/15.

Docket Numbers: RP15-1159-000.

Applicants: Northern Natural Gas Company.

Description: Section 4(d) Rate Filing: 20150731 Negotiated Rate to be effective 8/1/2015.

Filed Date: 7/31/15.

Accession Number: 20150731-5089.

Comments Due: 5 p.m. ET 8/12/15.

Docket Numbers: RP15-1160-000.

Applicants: Gulf States Transmission LLC.

Description: Section 4(d) Rate Filing: New Volume with Housekeeping to be effective 9/1/2015.

Filed Date: 7/31/15.

Accession Number: 20150731-5098.

Comments Due: 5 p.m. ET 8/12/15.

Docket Numbers: RP15-1161-000.

Applicants: Wyoming Interstate Company, L.L.C.

Description: Section 4(d) Rate Filing: FL&U to be effective Sept 1, 2015 to be effective 9/1/2015.

Filed Date: 7/31/15.

Accession Number: 20150731-5100.

Comments Due: 5 p.m. ET 8/12/15.

Docket Numbers: RP15-1162-000.

Applicants: Gulf South Pipeline Company, LP.

Description: Section 4(d) Rate Filing: Amendment to Neg Rate Agmt (Mobile 38531-2) to be effective 8/1/2015.

Filed Date: 7/31/15.

Accession Number: 20150731-5107.

Comments Due: 5 p.m. ET 8/12/15.

Docket Numbers: RP15-1163-000.

Applicants: Great Lakes Gas Transmission Limited Par.

Description: Great Lakes Gas Transmission Semi-Annual Transporter's Use Report.

Filed Date: 7/31/15.

Accession Number: 20150731-5112.

Comments Due: 5 p.m. ET 8/12/15.

Docket Numbers: RP15-1164-000.

Applicants: Gulf States Transmission LLC.

Description: Tariff Cancellation: Cancel entire First Revised Volume No. 1 to be effective 9/1/2015.

Filed Date: 7/31/15.

Accession Number: 20150731-5128.

Comments Due: 5 p.m. ET 8/12/15.

Docket Numbers: RP15-1165-000.

Applicants: Texas Eastern Transmission, LP.

Description: Section 4(d) Rate Filing: U2GC 9-1-2015 Non-conforming Agreements to be effective 9/1/2015.

Filed Date: 7/31/15.

Accession Number: 20150731-5148.

Comments Due: 5 p.m. ET 8/12/15.

Docket Numbers: RP15-1166-000.

Applicants: Rockies Express Pipeline LLC.

Description: Section 4(d) Rate Filing: 2015-07-31 Tariff Updates to be effective 8/1/2015.

Filed Date: 7/31/15.

Accession Number: 20150731-5155.

Comments Due: 5 p.m. ET 8/12/15.

Docket Numbers: RP15-1167-000.

Applicants: Columbia Gas Transmission, LLC.

Description: Section 4(d) Rate Filing: Negotiated Rate Agreement—SWN Amendment to be effective 9/1/2015.

Filed Date: 7/31/15.

Accession Number: 20150731-5161.

Comments Due: 5 p.m. ET 8/12/15.

Docket Numbers: RP15-1168-000.

Applicants: Millennium Pipeline Company, LLC.

Description: Section 4(d) Rate Filing: Negotiated Rate Service Agmt—Columbia, 150632 to be effective 9/1/2015.

Filed Date: 7/31/15.

Accession Number: 20150731-5164.

Comments Due: 5 p.m. ET 8/12/15.

Docket Numbers: RP15-1169-000.

Applicants: Guardian Pipeline, L.L.C.

Description: Section 4(d) Rate Filing: Terminated Negotiated Rate PAL Agreements—Koch Energy Services, LLC to be effective 8/31/2015.

Filed Date: 7/31/15.

Accession Number: 20150731-5182.

Comments Due: 5 p.m. ET 8/12/15.

Docket Numbers: RP15-1170-000.

Applicants: Gulf South Pipeline Company, LP.

Description: Section 4(d) Rate Filing: Amendment to NC Agmt and Remove Expired Agmts and References to be effective 8/1/2015.

Filed Date: 7/31/15.

Accession Number: 20150731-5184.

Comments Due: 5 p.m. ET 8/12/15.

Docket Numbers: RP15-1171-000.

Applicants: Algonquin Gas Transmission, LLC, Big Sandy Pipeline, LLC, Bobcat Gas Storage, East Tennessee Natural Gas, LLC, Egan Hub Storage, LLC, Maritimes & Northeast Pipeline, L.L.C., Ozark Gas Transmission, L.L.C., Saltville Gas Storage Company L.L.C., Southeast Supply Header, LLC, Texas Eastern Transmission, LP.

Description: Compliance filing Spectra Energy Pipelines Request for Waiver for LINK System Outage.

Filed Date: 7/31/15.

Accession Number: 20150731-5185.

Comments Due: 5 p.m. ET 8/5/15.

Docket Numbers: RP15-1172-000.

Applicants: Rockies Express Pipeline LLC.

Description: Section 4(d) Rate Filing: Neg Rates 2015-07-31 Encana, et al. to be effective 8/1/2015.

Filed Date: 7/31/15.

Accession Number: 20150731-5189.

Comments Due: 5 p.m. ET 8/12/15.

Docket Numbers: RP15-1173-000.

Applicants: Texas Eastern Transmission, LP.

Description: Compliance filing U2GC In-service Compliance Filing—Docket CP14-104-000 to be effective 9/1/2015.

Filed Date: 7/31/15.

Accession Number: 20150731-5229.

Comments Due: 5 p.m. ET 8/12/15.

Docket Numbers: RP15-1174-000.

Applicants: Equitrans, L.P.

Description: Section 4(d) Rate Filing: Negotiated Capacity Release Agreements—08/01/2015 to be effective 8/1/2015.

Filed Date: 7/31/15.

Accession Number: 20150731-5261.

Comments Due: 5 p.m. ET 8/12/15.

Docket Numbers: RP15-1175-000.

Applicants: Columbia Gas Transmission, LLC.

Description: Columbia Gas Transmission, LLC submits Off System Capacity Request under RP15-1175.

Filed Date: 7/31/15.

Accession Number: 20150731-5281.

Comments Due: 5 p.m. ET 8/12/15.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP10-996-000.

Applicants: Dominion Cove Point LNG, LP.

Description: Report Filing: DCP-2015 Report of Operational Sales and Purchases of Gas.

Filed Date: 7/31/15.

Accession Number: 20150731-5039.

Comments Due: 5 p.m. ET 8/12/15.

Docket Numbers: RP11-2631-000.

Applicants: Colorado Interstate Gas Company.

Description: Colorado Interstate Gas Company, L.L.C. submits report describing the withdrawal performance of the Totem Storage Field during the 2014-2015 storage season.

Filed Date: 7/31/15.

Accession Number: 20150731-5060.

Comments Due: 5 p.m. ET 8/12/15.

Docket Numbers: RP15-1057-001.

Applicants: Destin Pipeline Company, L.L.C.

Description: Compliance filing Asset Management Arrangements new effective date to be effective 7/13/2015.

Filed Date: 7/31/15.

Accession Number: 20150731-5191.

Comments Due: 5 p.m. ET 8/12/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 3, 2015.
Nathaniel J. Davis, Sr.,
Deputy Secretary.

[FR Doc. 2015-19553 Filed 8-7-15; 8:45 am]

BILLING CODE 6717-01-P